DEPARTMENT OF COMMERCE

International Trade Administration

Initiation of Antidumping and Countervailing Duty Administrative Reviews

AGENCY: Import Administration, International Trade Administration, Department of Commerce.

SUMMARY: The Department of Commerce (“the Department”) has received requests to conduct administrative reviews of various antidumping and countervailing duty orders and findings with April anniversary dates. In accordance with the Department's regulations, we are initiating those administrative reviews.

DATES: Effective Date: May 27, 2011.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with April anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be made in accordance with 19 CFR 351.303 and are subject to verification in accordance with section 782(i) of the Tariff Act of 1930, as amended (“Act”). Six copies of the submission should be submitted to the Assistant Secretary for Import Administration, International Trade Administration, Room 1870, U.S. Department of Commerce, 14th Street and Constitution Avenue, NW., Washington, DC 20230. Further, in accordance with 19 CFR 351.303(f)(3)(ii), a copy of each request must be served on the petitioner and each exporter or producer specified.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate-rate status unless they respond to all parts of the questionnaire as mandatory respondents.

Initiation of Reviews

In accordance with 19 CFR 351.221(c)(1)(i), we are initiating administrative reviews of the following antidumping and countervailing duty orders and findings. We intend to issue the final results of these reviews not later than April 30, 2012.

| Period to be reviewed
Antidumping Duty Proceedings
India: 1-Hydroxyethylidene-1, 1-Diphosphonic Acid (HEDP) A-533-847 | 4/1/10-3/31/11
Aquapharm Chemicals Pvt., Ltd
The People's Republic of China: Certain Activated Carbon ³ A-570-904 | 4/1/10-3/31/11
Absorbent Carbons Pvt. Ltd
AmeriAsia Advanced Activated Carbon Products Co., Ltd
Anhui Handfull International Trading (Group) Co., Ltd
Anhui Hengyuan Trade Co. Ltd
Anyang Sino-Shon International Trading Co., Ltd
Baoding Activated Carbon Factory
Beijing Broad Activated Carbon Co., Ltd
Beijing Haijian Jiechang Environmental Protection Chemicals
Beijing Hibridge Trading Co., Ltd
Beijing Pacific Activated Carbon Products Co., Ltd
Bengbu Jiutong Trade Co., Ltd
Calgon Carbon (Tianjin) Co., Ltd
Changji Hongke Activated Carbon Co., Ltd
Chengde Jiayu Activated Carbon Factory
Cherishmet Incorporated
China National Building Materials and Equipment Import and Export Corp
China National Nuclear General Company Ningxia Activated Carbon Factory
China Nuclear Ningxia Activated Carbon Plant
Da Neng Zheng Da Activated Carbon Co., Ltd
Datong Carbon Corporation
Datong Changtai Activated Carbon Co., Ltd
Datong City Zouyun County Activated Carbon Co., Ltd
Datong Fenghua Activated Carbon
Datong Forward Activated Carbon Co., Ltd
Datong Fuping Activated Carbon Co., Ltd
Datong Guanghua Activated Carbon Co., Ltd
Datong Hongtai Activated Carbon Co., Ltd
Datong Huanqing Activated Carbon Co., Ltd
Datong Huaxin Activated Carbon
Datong Huibao Active Carbon Co., Ltd
Datong Huibao Activated Carbon Co., Ltd
Datong Huiyuan Cooperative Activated Carbon Plant
Datong Juqiang Activated Carbon Co., Ltd
Datong Kaneng Carbon Co. Ltd
Datong Locomotive Coal & Chemicals Co., Ltd
Datong Municipal Yunguang Activated Carbon Co., Ltd
Datong Tianzhao Activated Carbon Co., Ltd
DaTong Tri-Star & Power Carbon Plant
Datong Weidu Activated Carbon Co., Ltd
Datong Xuanyang Activated Carbon Co. Ltd
Datong Zuoyun Biyun Activated Carbon Co., Ltd
Datong Zuoyun Fu Ping Activated Carbon Co., Ltd
Dezhou Jiayu Activated Carbon Factory
Dongguan Baofu Activated Carbon
Dongguan SYS Hitek Co., Ltd
Dushanzi Chemical Factory
Fu Yuan Activated Carbon Co., Ltd
Fujian Jianyang Carbon Plant
Fujian Nanping Yuanli Activated Carbon Co., Ltd
Fujian Yuanli Active Carbon Co., Ltd
Fuzhou Taking Chemical
Fuzhou Yihuan Carbon
Great Bright Industrial
Hangzhou Hengxing Activated Carbon
Hangzhou Hengxing Activated Carbon Co., Ltd
Hangzhou Linan Tianbo Material (HSLATB)
Hangzhou Nature Technology
Hebei Foreign Trade and Advertising Corporation
Hebei Shenglun Import & Export Group Company
Hegongye Ninxia Activated Carbon Factory
Heilongjiang Provincial Hechang Import & Export Co., Ltd
Hongke Activated Carbon Co., Ltd
Huaibei Environment Protection Material Plant
Huairen Huanyu Purification Material Co., Ltd
Huairen Jinbei Chemical Co., Ltd
Huaiyushan Activated Carbon Group
Huatai Activated Carbon
Huzhou Zhonglin Activated Carbon
Inner Mongolia Taixi Coal Chemical Industry Limited Company
Itigi Corp. Ltd
J&D Activated Carbon Filter Co. Ltd
Jacobi Carbons AB ²
Jiangle County Xinhua Activated Carbon Co., Ltd
Jiangsu Taixing Yixin Activated Carbon Technology Co., Ltd
Jiangxi Hanson Import Export Co
Jiangxi Huaiyushan Activated Carbon
Jiangxi Huaiyushan Activated Carbon Group Co
Jiangxi Huaiyushan Suntar Active Carbon Co., Ltd
Jiangxi Jinma Carbon
Jianou Zhixing Activated Carbon
Jiaocheng Xinxin Purification Material Co., Ltd
Jilin Bright Future Chemicals Company, Ltd
Jilin Province Bright Future Industry and Commerce Co., Ltd
Jing Mao (Dongguan) Activated Carbon Co., Ltd
Kaihua Xingda Chemical Co., Ltd
Kemflo (Nanjing) Environmental Tech
Keyun Shipping (Tianjin) Agency Co., Ltd
Kunshan Actview Carbon Technology Co., Ltd
Langfang Winfield Filtration Co
Link Shipping Limited
Longyan Wanan Activated Carbon
Mindong Lianyi Group
Nanjing Mulinsen Charcoal
Nantong Ameriasia Advanced Activated Carbon Product Co., Ltd
Ningxia Baota Activated Carbon Co., Ltd
Ningxia Baota Active Carbon Plant
Ningxia Guanghua A/C Co., Ltd
Ningxia Blue-White-Black Activated Carbon (BWB)
Ningxia Fengyuan Activated Carbon Co., Ltd
Ningxia Guanghua Activated Carbon Co., Ltd
Ningxia Guanghua Chemical Activated Carbon Co., Ltd
Ningxia Guanghua Cherishmet Activated Carbon Co., Ltd
Ningxia Haoqing Activated Carbon Co., Ltd
Ningxia Henghui Activated Carbon
Ningxia Honghua Carbon Industrial Corporation
Ningxia Huahui Activated Carbon Co., Ltd
Ningxia Huinong Xingsheng Activated Carbon Co., Ltd
Ningxia Jirui Activated Carbon
Ningxia Lingzhou Foreign Trade Co., Ltd
Ningxia Luyuangheng Activated Carbon Co., Ltd
Ningxia Mineral & Chemical Limited
Ningxia Pingluo County Yaofu Activated Carbon Plant
Ningxia Pingluo Xuanzhong Activated Carbon Co., Ltd
Ningxia Pingluo Yaofu Activated Carbon Factory
Ningxia Taixi Activated Carbon
Ningxia Tianfu Activated Carbon Co., Ltd
Ningxia Tongfu Coking Co., Ltd
Ningxia Weining Active Carbon Co., Ltd
Ningxia Xingsheng Coal and Active Carbon Co., Ltd
Ningxia Xingsheng Coke and Activated Carbon Co., Ltd
Ningxia Yinchuan Lanqiya Activated Carbon Co., Ltd
Ningxia Yirong Alloy Iron Co., Ltd
Ningxia Zhengyuan Activated
Nuclear Ningxia Activated Carbon Co., Ltd
OEC Logistic Qingdao Co., Ltd
Panshan Import and Export Corporation
Pingluo Xuanzhong Activated Carbon Co., Ltd
Pingluo Yu Yang Activated Carbon Co., Ltd
Shanghai Activated Carbon Co. Ltd
Shanghai Coking and Chemical Corporation
Shanghai Goldenbridge International
Shanghai Jiayu International Trading (Dezhou Jiayu and Chengde Jiayu)
Shanghai Jinhu Activated Carbon (Xingan Shenxin and Jiangle Xinhua)
Shanghai Light Industry and Textile Import & Export Co., Ltd
Shanghai Mebao Activated Carbon
Shanghai Xingchang Activated Carbon
Shanxi Blue Sky Purification Material Co., Ltd
Shanxi Carbon Industry Co., Ltd
Shanxi Dapu International Trade Co., Ltd
Shanxi DMD Corporation
Shanxi Industry Technology Trading Co., Ltd
Shanxi Newtime Co., Ltd
Shanxi Qixian Foreign Trade Corporation
Shanxi Qixian Hongkai Active Carbon Goods
Shanxi Sincere Industrial Co., Ltd
Shanxi Supply and Marketing Cooperative
Shanxi Tianli Ruihai Enterprise Co
Shanxi Xiaoyi Huanyu Chemicals Co., Ltd
Shanxi Xinhua Activated Carbon Co., Ltd
Shanxi Xinhua Chemical Co., Ltd. (formerly Shanxi Xinhua Chemical Factory)
Shanxi Xinhua Protective Equipment
Shanxi Xinshidai Import Export Co., Ltd
Shanxi Xuanzhong Chemical Industry Co., Ltd
Shanxi Zuoyun Yunpeng Coal Chemistry
Shenzhen Sihaiweilong Technology Co
Sincere Carbon Industrial Co. Ltd
Sinoacarbon International Trading Co. Ltd
Taining Jinhu Carbon
Tangshan Solid Carbon Co., Ltd
Tianchang (Tianjin) Activated Carbon
Tianjin Century Promote International Trade Co., Ltd
Tianjin Jacobi International Trading Co. Ltd
Tianjin Maijin Industries Co., Ltd
Taiyuan Hengxinda Trade Co., Ltd
Tonghua Bright Future Activated Carbon Plant
Tonghua Xinpeng Activated Carbon Factory
Triple Eagle Container Line
Uniclear New-Material Co., Ltd
United Manufacturing International (Beijing) Ltd
Valqua Seal Products (Shanghai) Co
VitaPac (HK) Industrial Ltd
Wellink Chemical Industry
Xi Li Activated Carbon Co., Ltd
Xi'an Shuntong International Trade & Industrials Co., Ltd
Xiamen All Carbon Corporation
Xingan County Shenxin Activated Carbon Factory
Xinhua Chemical Company Ltd
Xuanzhong Chemical Industry
Yangyuan Hengchang Active Carbon
Yicheng Logistics
Yinchuan Lanqiya Activated Carbon Co., Ltd
Zhejiang Quizhou Zhongsen Carbon
Zhejiang Xingda Activated Carbon Co., Ltd
Zhejiang Yun He Tang Co., Ltd
Zhuxi Activated Carbon
Zuoyun Bright Future Activated Carbon Plant
The People's Republic of China: Certain Steel Threaded Rod ⁴ A-570-932 | 4/1/10-3/31/11
Advanced Hardware Company
Alloy Steel Products, Inc
Anhui Ningguo Zhongding Sealing Co. Ltd
Autocraft Industrial (Shanghai) Ltd
Beijing Peace Seasky International
Billion Land Ltd
Century Distribution Systems
Century Distribution Systems, Inc
Certified Products International Inc
Changzhou Vitian Building Material
China Brother Holding Group Co. Ltd. a/k/a Zhejiang Morgan Brother Technology Co., Ltd
China Jiangsu International Economic Technical Cooperation Corporation
China Jiangsu International Economic
Dalian American International Trading Co., Ltd
Dalian Fortune Machinery Co., Ltd
Dalian Harada Industry Co., Ltd
Dayang Fastener Mfg. Co. Ltd
EC International (Nantong) Co. Ltd
Eric Industrial (Hangzhou) Co. Ltd
Ever Industries Co
Fairiver Inc
Fastco (Shanghai) Trading Co. Ltd
Fasten International Co. Ltd
Fastwell Industry Co. Ltd
Flexistrut Pipe Support Co. Ltd
Fuller Shanghai Co. Ltd
Gem-Year Industrial Co., Ltd
Haimen Changjiang Jarments
Haining Chang'an Changxin
Haining Fast Import & Export Co. Ltd
Haining Light Industry Trade Co. Ltd
Haiyan County No. 1 Fasteners Factory
Haiyan Dayu Fasteners Co., Ltd
Haiyan Feihua Fasteners Co. Ltd
Haiyan Haiyu Hardware Co. Ltd
Haiyan Jianhe Hardware Co. Ltd
Haiyan Jinnui Fasteners Co. Ltd
Haiyan Julong Standard Part Co., Ltd
Haiyan Lianxiang Hardware Products
Haiyan Sanhuan Import & Export Co
Haiyan Xiyue Electrical Appliances Co., Ltd
Haiyan Yida Fastener Co. Ltd
Handan Spring Bud Pottery
Handan Tongda Machinery Co., Ltd
Handsun Industry General Co
Hangshou Daton Wind Power
Hangshou Huayan Imp. and Exp. Co. Ltd
Hangzhou Everbright Imp & Exp Co. Ltd
Hangzhou Genesis Hardware & Tool Co
Hangzhou Grand Imp. & Exp. Co., Ltd
Hangzhou Robinson Trading Co. Ltd
HD Supply Shanghai Distribution Center
Hebei Richylin Trading Co Ltd
Hiking (Qingdao) International Trade
Hiking Group Shandong Welltrade Intl Trade Co. Ltd
Honghua International Co. Ltd
Jiangsu Changzhou International Economic and Technical Co. Ltd
Jiangsu Soho International Group Corp
Jiangsu Yanfei Special Steel Products
Jiangxi Yuexin Standard Part Co. Ltd
Jiangyin Zhouzhuang No. 4 Dyeing
Jiashan Lisan Metal Products Co. Ltd
Jiashan Zhongsheng Metal Products
Jiaxing Brother Fastener Co., Ltd., IFI & Morgan Ltd. and RMB Fasteners Ltd
Jiaxing Brother Standard Part a/k/a Zhejiang Morgan Brother Technology Co., Ltd
Jiaxing China Industrial Imp & Exp Co
Jiaxing Pacific Trading Co. Ltd
Jiaxing Tsr Hardware Inc
Jiaxing Wonper Imp. & Exp. Co. Ltd
Jiaxing Xinyue Standard Part Co., Ltd
Jiaxing Xinyue Standard Part
Jinan Kinger Pipeline Corp
JS Fasteners Co. Ltd
Jun Valve Junshan Co. Ltd
Kewell Products Corporation
Kingfast Hardware (Shenzhen) Ltd
Lanba Fasteners Co. Ltd
Le Group Industries Corp Limited
Lianyungang Hanming Trade Co. Ltd
Mengyin Jingcheng Forging Products Co. Ltd
Nantong Harlan Machinery Co. Ltd
New Etco (China) Intl. Trade Co. Ltd
New Pole Power Systems Co. Ltd
Ningbiao Bolts & Nuts Manufacturing Co
Ningbo ABC Fasteners Co. Ltd
Ningbo Beilun Fastening Co. Ltd
Ningbo Beilun Longsheng Hardware Co. Ltd
Ningbo Beilun Milfast Metalworks Co. Ltd
Ningbo Daxie Chuofeng Industrial Development Co., Ltd
Ningbo Dexin Fastener Co. Ltd
Ningbo Dongxin High-Strength Nut Co. Ltd
Ningbo Etdz Holding Ltd
Ningbo ETDZ Jiangxing Hardware Products Co. Ltd
Ningbo Fastener Factory
Ningbo Fengya Imp. & Exp. Co. Ltd
Ningbo Fourway Co. Ltd
Ningbo Gold Ring Fitting Co. Ltd
Ningbo Haishu Wit Imp. & Exp. Co. Ltd
Ningbo Haobo Commerce Co. Ltd
Ningbo Huahui Import & Export Co. Ltd
Ningbo Jiansheng Metal Products Co
Ningbo Jinding Fastening Piece Co., Ltd. a/k/a Ningbo Qunli Fastener
Manufacture Co., Ltd
Ningbo Kangtai Hardware Factory
Ningbo Ordam Import & Export Co. Ltd. a/k/a Zhejiang Ordam Fastener Factory
Ningbo Pingda Imp & Exp Co. Ltd
Ningbo Shareway Import and Export Co. Ltd
Ningbo Weifeng International Enterprise
Ningbo Weiye Co
Ningbo Xinyang Weiye Import and Export Co. Ltd
Ningbo Yinzhou Foreign Trade Co. Ltd
Ningbo Yonggang Fastener Co. Ltd
Ningbo Zhenghai Yongding Fastener Co
Ningbo Zhengyu Fasteners Co., Ltd
Ningbo Zhongbin Fastener Mfg. Co. Ltd
Ningbo Zhongjiang High Strength Bolts Co. Ltd
Ningbo Zhongjiang Petroleum Pipes & Machinery Co. Ltd
Orient International Enterprise Ltd
Panther T & H Industry Co. Ltd
Patent International Logistics (Shenzhen) Co., Ltd
Penglai City Bohai Hardware Tool Co. Ltd
Pennengineering Automotive Fastener
Pinghu City Zhapu Screw Cap Factory/Pinghu Zhapu Nut Factory
Qingdao Free Trade Zone Health Intl.
Qingdao H.R. International Trading Co
Qingdao Hengfeng Development Trade
Qingdao Huaqing Imp. and Exp. Co. Ltd
Qingdao Morning Bright Trading
Qingdao Top Steel Industrial Co
Qingdao Uni-trend Int'l Ltd
Roberts Co
R-union Enterprise Co. Ltd
Shaanxi Shcceed Trading Co. Ltd
Shanghai East Best Foreign Trade Co
Shanghai Foreign Trade Enterprises Pudong Co. Ltd
Shanghai Fortune International Co. Ltd
Shanghai Huiyi International Trade
Shanghai Jiading Foreign Trade Co. Ltd
Shanghai Overseas International Trading Co. Ltd
Shanghai Prime Machinery Co. Ltd
Shanghai Recky International Trading Co., Ltd
Shanghai Printing & Packaging
Shanghai Shangdian Washer Co
Shanghai Shenguang High Strength Bolts Co. Ltd
Shanghai Sunrise International Co
Shanghai Tianying Metal Parts Co. Ltd
Shanghai Topnotch Intl Co. Ltd
Shanghai Veris Industrial
Shanghai Wisechain Fastener Ltd
Wangzhai Group
Shanghai Xianglong International Trading Co., Ltd
Shaoxing Grace International Trade
Shenzhen Texinlong Trading Co
Shenzhen Xiguan Trading Ltd
Staco Co. Ltd
Staco Co., Ltd
Suntec Industries Co., Ltd
Suzhou Textile Silk Co. Ltd
Synercomp China Co. Ltd
T and C Fastener Co. Ltd
T and L Industry Co. Ltd
T&S Technology LLC
Tong Ming Enterprise
Tri-Star Trading Co. (Hong Kong)
Unimax International Ltd
Wellful GroupWisechain Trading Ltd
Wujiang Foreign Trade Corporation
Wuxi Zontai International Corporation Ltd
Yancheng International Enterprise
Yancheng Sanwei Imp. & Exp. Co. Ltd
Yi Chi Hsiung Ind. Corp
Yixunda Industrial Products Supply
Yueqing Baifa Fastener Factory a/k/a Yueqing Ordam Fastener Factory
Yueyun Imp & Exp Co. Ltd
Yuyao Nanshan Development Co. Ltd
Zhapu Creative Standard Parts Material Co., Ltd
Zhejiang Guorui Industry Co., Ltd
Zhejiang Hailiang Co. Ltd
Zhejiang Henda Trading Company
Zhejiang Huamao International Co. Ltd
Zhejiang Laibao Hardware Co. Ltd
Zhejiang Machinery & Equipment Co. Ltd
Zhejiang Minmetals Sanhe
Zhejiang Morgan Brother Technology Co. Ltd
Zhejiang New Century Imp & Exp Co
Zhejiang New Oriental Fastener Co., Ltd
Zhejiang Peace Industry and Trading
Zhejiang Runjin Auto Parts Co. Ltd
Zhejiang Xingxing Optoelectron
Zhejiang Zhenglian Corp
Zhenghai Yongding Fastener Co. a/k/a Ningbo Zhenghai Youngding Fastener Co., Ltd
Zhongsheng Metal Products Co. Ltd. a/k/a Jiashan Zhongsheng Metal Products Co., Ltd
The People's Republic of China: Frontseating Service Valves ⁵ A-570-933 | 4/1/10-3/31/11
Zhejiang DunAn Hetian Metal Co., Ltd
Zhejiang Sanhua Co., Ltd
The People's Republic of China: Magnesium Metal ⁶ A-570-896 | 4/1/10-3/31/11
Tianjin Magnesium International Co., Ltd
Countervailing Duty Proceeding
None.
Suspension Agreements
None.

³ If one of the above named companies does not qualify for a separate rate, all other exporters of Certain Activated Carbon from the People's Republic of China (“PRC”) who have not qualified for a separate rate are deemed to be covered by this review as part of the single PRC entity of which the named exporters are a part.

⁴ If one of the above named companies does not qualify for a separate rate, all other exporters of Certain Steel Threaded Rod from the PRC who have not qualified for a separate rate are deemed to be covered by this review as part of the single PRC entity of which the named exporters are a part.

⁵ If one of the above named companies does not qualify for a separate rate, all other exporters of Frontseating Service Valves from the PRC who have not qualified for a separate rate are deemed to be covered by this review as part of the single PRC entity of which the named exporters are a part.

⁶ If the above named company does not qualify for a separate rate, all other exporters of Magnesium Metal from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

Any party submitting factual information in an AD/CVD proceeding must certify to the accuracy and completeness of that information. See section 782(b) of the Act. Parties are hereby reminded that revised certification requirements are in effect for company/government officials as well as their representatives in all segments of any AD/CVD proceedings initiated on or after March 14, 2011. See Certification of Factual Information to Import Administration During Antidumping and Countervailing Duty Proceedings: Interim Final Rule, 76 FR 7491 (February 10, 2011) (Interim Final Rule) amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)), and 19 CFR 351.221(c)(1)(i).

Dated: May 23, 2011.
Christian Marsh,
Deputy Assistant Secretary for Antidumping and Countervailing Duty Operations.

[FR Doc. 2011-13245 Filed 5-26-11; 8:45 am]

BILLING CODE 3510-DS-P